DEPARTMENT OF DEFENSE

Office of the Secretary

Proposed Collection; Comment Request

AGENCY: Office of the Under Secretary of Defense (Personnel and Readiness).

ACTION: Notice.

In compliance with Section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by July 13, 2001.

ADDRESSES: Written comments and recommendations on the proposed information collection should be sent to the Office of the Under Secretary of Defense (Personnel and Readiness) (Force Management) (DeCA), Attn: Herman Weaver, 1300 E Ave, Ft Lee, Virginia 23801-1800.

FOR FURTHER INFORMATION CONTACT: To request more information on this proposed information collection or to obtain a copy of the proposal and associated collection instruments, please write to the above address or call at (804) 734-8322.

Title, Associated Form, and OMB Control Number: Commissary Customer Service Survey, DeCA Form 60-28, OMB Number 0704-0380.

Needs and Uses: This information collection requirement is necessary to the Defense Commissary Agency for the purpose of measuring customer service, which is our number one Strategic and Performance goal. This management tool uses a survey form, DeCA Form 60-28, Commissary Customer Service Survey, designed to extract objective, subjective, and demographic information from our customers so we can better serve their needs. The results will be reported and distributed to the regional headquarters and commissaries to use the past and present trends for the purpose of future improvement. Also, the results will directly affect our policies and quality initiatives for an efficient and cost-effective commissary system.

Affected Public: Individuals or households.

Annual Burden Hours: 500.

Number of Respondents: 7,500.

Responses Per Respondent: 1.

Average Burden Per Response: 4 minutes.

Frequency: Annually.

SUPPLEMENTARY INFORMATION:

Summary of Information Collection

The primary purpose for this information is to determine how well each commissary is satisfy the customer. This will serve as a measuring stick for future trends and give management vital information to make cost-effective decisions. The information received will impact return customers and inspire new customers, which will increase our surcharge accounts that provide new commissary construction and renovations. Our primary goal is to preserve the military's most valued benefit through customer satisfaction.

Each commissary (CONUS & OCONUS) will be sent their numbered Commissary Customer Service Surveys (DeCAF 60-28) based on its class (1-9). Class is based on annual sales. Each commissary officer will select an administrator who will distribute the surveys randomly three times each day (one hour after store opens, midday, and two hours before closing) for ten consecutive days. The following information will be collected: Customer relations, savings, cleanliness, scheduling, atmosphere, quality of meat and produce, managers and employees knowledge and helpfulness, and their most valued benefit.

Dated: May 3, 2001.
Patricia L. Toppings,
Alternate OSD Federal Register Liaison Officer, Department of Defense.

[FR Doc. 01-11964 Filed 5-10-01; 8:45 am]

BILLING CODE 5001-08-M